PEACE CORPS

Information Collection Request; Submission for OMB Review

AGENCY: Peace Corps.

ACTION: 30-Day notice and request for comments.

SUMMARY: The Peace Corps will be submitting the following information collection request to the Office of Management and Budget (OMB) for review and approval. The purpose of this notice is to allow 30 days for public comment in the Federal Register preceding submission to OMB. We are conducting this process in accordance with the Paperwork Reduction Act of 1995 (44 U.S.C. Chapter 35).

DATES: Submit comments on or before September 22, 2014.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA/Privacy Act Officer, Peace Corps, 1111 20th Street NW., Washington, DC 20526, (202) 692-1236, or email at pcfr@peacecorps.gov.

SUPPLEMENTARY INFORMATION: Peace Corps' Office of Volunteer Recruitment and Selection will use the information as an integral part of the selection process to learn whether an applicant possesses the necessary characteristics and skills to serve as a Volunteer.

OMB Control Number: 0420-XXXX.

Title: Interview Rating Tool—Questions.

Type Of Review: New.

Affected Public: Individuals.

Respondents' Obligation To Reply: Voluntary.

Burden To The Public:

a. Number of Applicants: 20,000

b. Estimated number of applicants who interview: 4,500

d. Frequency of response: One time

e. Completion time: 90 minutes

f. Annual burden hours: 6,750 hours

General Description Of Collection: Peace Corps will use this information in order to learn whether an applicant possesses the necessary characteristics and skills to serve as a Volunteer. If Peace Corps were unable to gather responses to the interview questions and record the information requested on this form, the agency would run the risk of sending poorly qualified or unqualified representatives into foreign countries. The communities where Peace Corps assigns Volunteers often observe closely the actions and behaviors of Volunteers, who are representatives of the United States.

Request For Comment: Peace Corps invites comments on whether the proposed collection of information is necessary for proper performance of the functions of the Peace Corps, including whether the information will have practical use; the accuracy of the agency's estimate of the burden of the proposed collection of information, including the validity of the information to be collected; and ways to minimize the burden of the collection of information on those who are to respond, including through the use of automated collection techniques, when appropriate, and other forms of information technology.

This notice issued in Washington, DC, on August 19, 2014.
Denora Miller,
FOIA/Privacy Act Officer, Management.

[FR Doc. 2014-20019 Filed 8-21-14; 8:45 am]

BILLING CODE 6051-01-P